DEPARTMENT OF DEFENSE

Department of the Army; Corps of Engineers

Intent To Prepare a Draft Environmental Impact Statement for the Lake Okeechobee Watershed Project

AGENCY: Department of the Army, U.S. Army Corps of Engineers, DoD.

ACTION: Notice of intent.

SUMMARY: The U.S. Army Corps of Engineers (Corps), Jacksonville District, intends to prepare an integrated Project Implementation Report/Draft Environmental Impact Statement (PIR/DEIS) for the Lake Okeechobee Watershed Project. The study is a cooperative effort between the Corps and the South Florida Water Management District (SFWMD), which is also a cooperating agency for this DEIS. One of the recommendations of the final report of the Central & South Florida (C&SF) Comprehensive Review Study (Restudy) was the implementation of the Lake Okeechobee Watershed Project. This project is intended to improve the water quality of Lake Okeechobee and it's tributaries by capturing and treating surface water discharges into the watershed, while managing optimal water levels necessary to improve the habitats within the lake and downstream bodies. This project is a component of the Comprehensive Everglades Restoration Plan, a multi-year effort to restore the greater Everglades ecosystem while providing water supply and other water-related benefits to South Florida over many decades.

FOR FURTHER INFORMATION CONTACT: Mr. Brad Tarr, U.S. Army Corps of Engineers, Planning Division, Environmental Branch, P.O. Box 4970, Jacksonville, FL, 32232-0019, by e-mail bradley.a.tarr@usace.army.mil, or by telephone at 904-232-3582.

SUPPLEMENTARY INFORMATION:

a. Authorization: The authority for this project is contained within the Water Resources Development Act (WRDA) 2000. The “Design Agreement between the Department of the Army and the SFWMD for the Design of Elements of the Comprehensive Plan for the Everglades and South Florida Ecosystem Restoration Project” contains additional guidance.

b. Study Area: Lake Okeechobee lies 30 miles west of the Atlantic Ocean and 60 miles east of the Gulf of Mexico, in the central part of the Florida peninsula. The Lake is approximately 730 square miles, and is the principal natural reservoir in south Florida. The study area includes portions of St. Lucie, Martin, Okeechobee, Glades, and Hendry Counties.

c. Project Scope: The Lake Okeechobee Watershed Project includes four separable elements including; North of Lake Okeechobee Storage Reservoir, Taylor Creek/Nubbin Slough Storage and Treatment Area, Lake Okeechobee Watershed Quality Treatment Facilities, and Lake Okeechobee Tributary Sediment Dredging. The Restudy recommends the construction of 14,375 acres of reservoir-assisted stormwater treatment areas, a 17,500 acre reservoir with a 2,500 acre stormwater treatment area (providing up to 210,000 acre-feet of storage), the removal of 150 tons of phosphorus from tributaries, and the restoration of approximately 3,500 acres of wetlands.

The objectives of the project are to improve the water quality of inflows to Lake Okeechobee, store excess water to allow for better management of Lake Okeechobee water levels and reduce damaging fresh water releases to the Caloosahatchee estuary and the St. Lucie estuary, and restore several wetlands in the basins. Wet season runoff from the watershed north of the Lake will be attenuated by reservoirs and restored wetlands. The increased storage capacity in these basins will reduce the duration and frequency of both extreme high and low water levels in the Lake that are stressful to the Lake's littoral zone and ecosystem and will reduce large discharges from the Lake that damage the downstream estuarine ecosystems. Runoff from the basins will be diverted to stormwater treatments areas to reduce phosphorus loading to the Lake.

The study will evaluate alternatives based on their ability to improve water deliveries to the natural system, protect and conserve water resources, improve water quality, protect or restore fish and wildlife and their associated habitat, restore and manage wetland and associated upland ecosystems, sustain economic and natural resources, and other performance criteria being developed by the Project Delivery Team.

d. Preliminary Alternatives: Formulation of alternative plans will involve the selection of the most suitable locations, sizes, depths, and configurations of facilities through detailed planning and design.

The Environmental Impact Statement (EIS) will include an evaluation of adverse environmental impacts, including but not limited to, water quality, socio-economic, archaeological and biological. In addition to adverse impacts, the evaluation will also focus on how well the plans perform with regard to specific performance measures.

e. Issues: The EIS will address the impacts of capturing and holding excess water in large storage areas during wet periods and the subsequent release for later use during dry periods into stormwater treatment areas.

The EIS will also address environmental issues: water quality; impacts to the estuaries; flood protection; aesthetics and recreation; fish and wildlife resources, including protected species; cultural resources; and other impacts identified through scoping, public involvement, and interagency coordination.

f. Scoping: A scoping letter and public workshops will be used to invite comments on alternatives and issues from Federal, State, and local agencies, affected Indian tribes, and other interested private organizations and individuals. The next public workshop is scheduled for 13 August 2002, at the Okeechobee Freshman Campus Auditorium, on 700 SW., Avenue, Okeechobee, Florida. The meeting will begin at 6 p.m. and continue to 9 p.m.

Other public meeting will be held over the course of the study; the exact location, dates, and times will be announced in public notices and local newspapers.

g. DEIS Preparation: The integrated draft PIR, which will include a DEIS, is currently scheduled for publication in November 2005.

Dated: February 2, 2002.
James C. Duck,
Chief, Planning Division.

[FR Doc. 02-19707 Filed 8-2-02; 8:45 am]

BILLING CODE 3710-AJ-M